DEPARTMENT OF ENERGY

Federal Energy Regulatory Commission

[Docket No. RP03-228-001]

Alliance Pipeline L.P.; Notice of Compliance Filing

February 11, 2003.

Take notice that on February 6, 2003, Alliance Pipeline L.P. (Alliance) tendered for filing as part of its FERC Gas Tariff, Original Volume No. 1, Substitute First Revised Sheet No. 253, proposed to become effective February 1, 2003..

On December 31, 2002, Alliance filed First Revised Sheet No. 253 to amend the General Terms and Conditions (GTC) of its FERC Gas Tariff to permit Alliance to terminate a temporary release of capacity, upon 30-days written notice to the replacement shipper, where (i) Alliance has terminated the releasing shipper's Firm Transportation Agreement or Master Capacity Release Agreement in accordance with GTC Section 8 (Default and Termination); and (ii) the rate stated in the replacement shipper's applicable Capacity Release Schedule is less than the rate that the releasing shipper was obligated to pay Alliance.

Alliance further proposed that a replacement shipper may avoid termination of the temporary release if, prior to the end of the 30-day notice period, the replacement shipper agrees that, beginning the first day after the end of the 30-day notice period, it will pay, for the remainder of the term of the release, either the rate the former releasing shipper was obligated to pay Alliance, the maximum applicable Recourse Reservation and Usage Charges as stated in the tariff for the applicable service, or a rate mutually agreed upon by Alliance and the Shipper.

By order issued January 30, 2003, the Commission accepted Alliance's filing, to be effective February 1, 2003, subject to Alliance filing clarifying language specifying that the replacement shipper may retain the released capacity by agreeing to pay the “lesser of” the available rate options. By its filing, Alliance is proposing to add the required clarifying language. Alliance states further that, because the relative relationship between its recourse and negotiated rates will not necessarily remain static over the term of any particular release of capacity, it is also adding further clarifying language to provide the replacement shipper with the right to determine which of the available rate options will provide the lowest effective rate over the remaining term of a capacity release.

Alliance states that copies of its filing have been mailed to all customers, state commissions, and other interested parties.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 18, 2003.

Magalie R. Salas,
Secretary.

[FR Doc. 03-3799 Filed 2-14-03; 8:45 am]

BILLING CODE 6717-01-P